DEPARTMENT OF AGRICULTURE

Natural Resources Conservation Service

Notice of Proposed Change to Section IV of the Arizona NRCS State Technical Guide

AGENCY: Natural Resources Conservation Service, USDA.

ACTION: Notice of availability of a proposed change in the Arizona NRCS State Technical Guide for review and comment.

SUMMARY: The NRCS State Conservationist for Arizona has determined that a change is needed in Section IV of the NRCS State Technical Guide. Specifically, NRCS in Arizona will revise the NRCS Arizona Practice Standard for Nutrient Management (Code 590).

DATES: Comments will be received for a 30-day period commencing with this date of publication.

ADDRESSES: Address all requests and comments to Michael Somerville, State Conservationist, USDA-NRCS, 3003 North Central Avenue, Suite 800, Phoenix, Arizona 85012. Copies of this standard will be made available upon written request. You may also submit your electronic requests and comments to donald.walther@az.usda.gov.

FOR FURTHER INFORMATION CONTACT: Donald Walther, Cropland Specialist, USDA-NRCS, 2000 E. Allen Road, Tucson, Arizona 85719-1596, telephone (520) 670-6602 Ext. 232.

SUPPLEMENTARY INFORMATION: Section 343 of the Federal Agriculture Improvement and Reform Act of 1996 states that revisions made after enactment of the law to NRCS State Technical Guides used to carry out highly erodible land and wetland provisions of the law shall be made available for public review and comment. For the next 30 days, the NRCS will receive comments relative to the proposed change. Following that period, a determination will be made by the NRCS in Arizona regarding disposition of those comments and a final determination of change will be made to the subject standard.

No administrative action on implementation of the proposal will be taken until 30 days after the date of this publication in the Federal Register.

Michael Somerville,
State Conservationist.

[FR Doc. 04-12577 Filed 6-2-04; 8:45 am]

BILLING CODE 3410-16-P